DEPARTMENT OF HOUSING AND URBAN DEVELOPMENT

[Docket No. FR-5544-D-05]

Redelegation of Authority Under the Age Discrimination Act of 1975

AGENCY: Office of the Assistant Secretary for Fair Housing and Equal Opportunity, HUD.

ACTION: Notice of redelegation of authority.

SUMMARY: The Assistant Secretary for Fair Housing and Equal Opportunity (FHEO) supersedes all prior redelegations of authority made within the Office of the Assistant Secretary for FHEO under the Age Discrimination Act of 1975, and retains and redelegates this authority, with noted exceptions, to the General Deputy Assistant Secretary for FHEO, who in turn redelegates certain authority to the Deputy Assistant Secretary for Enforcement and Programs, Director of the Office of Enforcement and FHEO Region Directors.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Information Relay Service at (800) 877-8339.

SUPPLEMENTARY INFORMATION: By separate notice published in today's Federal Register, the Secretary delegates to the Assistant Secretary for FHEO authority pertaining to civil rights statutes. Included in that consolidated delegation is the authority to act under the Age Discrimination Act of 1975. In this notice, the Assistant Secretary for FHEO supersedes prior redelegations and retains and, with noted exceptions, redelegates authority under the Age Discrimination Act to the General Deputy Assistant Secretary for FHEO. The General Deputy Assistant Secretary for FHEO, in turn, redelegates certain authority to certain FHEO headquarters and region staff.

Accordingly, the Assistant Secretary for FHEO and the General Deputy Assistant Secretary for FHEO redelegate authority as follows:

Section A. Authority Redelegated

The Assistant Secretary for FHEO retains and, with noted exceptions, redelegates to the General Deputy Assistant Secretary for FHEO authority to act under the Age Discrimination Act of 1975 and its implementing regulations in 24 CFR part 146 .The authority delegated in this notice does not include authority as provided in 24 CFR 146.39, 146.47(a), and 146.49. This includes the authority to further redelegate authority. The General Deputy Assistant Secretary for FHEO retains and, with noted exceptions, redelegates this authority to the Deputy Assistant Secretary for Enforcement and Programs, Director of the Office of Enforcement, and the FHEO Region Directors.

Section B. Authority Excepted

The authority redelegated by the Assistant Secretary does not include the authority to issue or waive regulations. The authority redelegated by the General Deputy Assistant Secretary does not include the authority to further redelegate.

Section C. Authority Superseded

All prior redelegations of authority made within the office of the Assistant Secretary for FHEO under the Age Discrimination Act of 1975 are superseded.

Authority: Section 7(d) of the Department of Housing and Urban Development Act (42 U.S.C. 3535(d)).

Dated: November 16, 2011.
John Trasviña,
Assistant Secretary for Fair Housing and Equal Opportunity.
Bryan Greene,
General Deputy Assistant Secretary for Fair Housing and Equal Opportunity.

[FR Doc. 2011-30759 Filed 11-28-11; 8:45 a.m.]

BILLING CODE 4210-67-P